ENVIRONMENTAL PROTECTION AGENCY

40 CFR Part 52

[EPA-R06-OAR-2006-0132; FRL-9161-1]

Extension of Public Comment Period for Proposed Rule on the Approval and Promulgation of Implementation Plans; Texas; Excess Emissions During Startup, Shutdown, Maintenance, and Malfunction Activities

AGENCY: Environmental Protection Agency (EPA).

ACTION: Extension of public comment period.

SUMMARY: The EPA is announcing a 14-day extension of the public comment period for the proposed “Approval and Promulgation of Implementation Plans; Texas; Excess Emissions During Startup, Shutdown, Maintenance, and Malfunction Activities.” As initially published in the Federal Register on May 13, 2010 (75 FR 26892), written comments on the proposal for rulemaking were to be submitted to EPA on or before June 14, 2010 (a 30-day public comment period). Since publication, EPA has received requests for additional time to submit comments. Therefore, the public comment period will now end on June 28, 2010. This extension is time-limited because the rule has to be finalized by October 31, 2010 under the terms of a settlement agreement.

DATES: The public comment period for this proposed rule is extended until June 28, 2010.

FOR FURTHER INFORMATION CONTACT: Mr. Alan Shar, Air Planning Section (6PD-L), Environmental Protection Agency, Region 6, 1445 Ross Avenue, Suite 700, Dallas, Texas 75202-2733, telephone (214) 665-6691, fax (214) 665-7263, e-mail address shar.alan@epa.gov.

SUPPLEMENTARY INFORMATION:

I. General Information

A. Extension of Public Comment Period

The proposed rule was signed on May 5, 2010, and published in the Federal Register on May 13, 2010 (75 FR 26892). The EPA has received requests for additional time to comment on the proposal. Since the 30-day public comment period would have concluded on June 14, 2010, EPA has decided to extend the comment period until June 28, 2010. This extension is time-limited because the rule must be finalized by October 31, 2010 under the terms of a settlement agreement.

B. How can I get copies of this document and other related information?

1. Docket. The EPA has established a docket for this action under Docket ID No. EPA-R06-OAR-2006-0132. Publicly available docket materials are available either electronically through http://www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment. If possible, please make the appointment at least two working days in advance of your visit. There will be a 15 cent per page fee for making photocopies of documents. On the day of the visit, please check in at the EPA Region 6 reception area at 1445 Ross Avenue, Suite 700, Dallas, Texas 75202-2733.

2. Electronic Access. You may access this Federal Register document electronically through the http://www.gpoaccess.gov/fr/index.html. Also, the proposed rulemaking was published in the Federal Register on May 13, 2010 and is available at http://edocket.access.gpo.gov/2010/2010-11429.htm.

Dated: June 3, 2010.
Lawrence E. Starfield,
Acting Regional Administrator, Region 6.

[FR Doc. 2010-14094 Filed 6-10-10; 8:45 am]

BILLING CODE 6560-50-P